DEPARTMENT OF COMMERCE

National Oceanic and Atmospheric Administration

Agency Information Collection Activities; Submission to the Office of Management and Budget (OMB) for Review and Approval; Comment Request; Fisheries Certificate of Origin

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 24, 2022 during a 60-day comment period. This notice allows for an additional 30 days for public comments.

Agency: National Oceanic and Atmospheric Administration (NOAA), Commerce.

Title: Fisheries Certificate of Origin.

OMB Control Number: 0648-0335.

Form Number(s): NOAA Form 370.

Type of Request: Regular submission, extension of a current information collection.

Number of Respondents: 540.

Average Hours per Response: 25 minutes.

Total Annual Burden Hours: 5,833.

Needs and Uses: This request is for an extension of a current information collection sponsored by NMFS' Office of International Affairs, Trade, and Commerce. The information required by the International Dolphin Conservation Program Act, amendment to the Marine Mammal Protection Act, is needed to: (1) Document the dolphin-safe status of frozen and/or processed tuna import shipments; (2) verify that import shipments of fish were not harvested by large-scale, high seas driftnets; and (3) verify that tuna was not harvested by an embargoed nation or one that is otherwise prohibited from exporting tuna to the United States.

Collected information includes the U.S. Customs and Border Protection Entry Identification, date of entry, and contact details on the exporting and importing companies. Collected information also includes harvest characteristics such as fishing vessel name, fishing trip dates, vessel flag, vessel gear type, and ocean area of harvest, as well as the declaration of the dolphin-safe status of the shipment, and if applicable, the attachment of required certifications. Forms are submitted by importers and processors. NMFS uses this information to verify the dolphin-safe status of tuna shipments.

Affected Public: Business or other for-profit organizations.

Frequency: Per applicable tuna importation.

Respondent's Obligation: Mandatory.

Legal Authority: Marine Mammal Protection Act (16 U.S.C. 1361 et seq.) and the Dolphin Protection Consumer Information Act (16 U.S.C. 1385).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0335.

Sheleen Dumas,
Department PRA Clearance Officer, Office of the Chief Information Officer, Commerce Department.

[FR Doc. 2022-09829 Filed 5-5-22; 8:45 am]

BILLING CODE 3510-22-P